DEPARTMENT OF DEFENSE

Office of the Secretary

[Docket ID: DoD-2009-OS-0087]

Proposed Collection; Comment Request

AGENCY: Office of the Under Secretary of Defense for Acquisition, Technology, and Logistics, DoD.

ACTION: Notice.

SUMMARY: In compliance with section 3506(c)(2)(A) of the Paperwork Reduction Act of 1995, the Office of the Under Secretary of Defense for Acquisition, Technology, and Logistics announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received August 18, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense for Acquisition, Technology, and Logistics, 3010 Defense Pentagon, Washington, DC 20301-3010, or call at (703) 692-3032.

Title and OMB Number: Qualification to Possess Firearms or Ammunition; OMB Control Number 0704-TBD.

Needs and Uses: In accordance with DoD Instruction 3020.pp, “Private Security Contractors Operating in Contingency Operations” written acknowledgement by the contract company and its individual Private Security Contractor (PSC) personnel, after investigation of background of PSC personnel by the contractor, shall be provided verifying such personnel are not prohibited under 922(g) of title 18, United States Code to possess firearms or ammunition.

Affected Public: Business or other for-profit.

Annual Burden Hours: 3,750 hours (15,000 employees × .25 hrs).

Number of Respondents: 125 companies.

Responses per Respondent: 5 employees to 2,500 employees (average 120).

Average Burden per Response: Approximately 15 minutes.

Frequency: On occasion.

SUPPLEMENTARY INFORMATION:

Summary of Information Collection

Written acknowledgements shall be used to verify that PSC personnel meet qualifications to possess firearms or ammunition.

In the case of individuals found to have a qualifying conviction, the appropriate authority will immediately retrieve all government-issued firearms and ammunition. It will be requested that such individuals be removed from contracts supporting contingency operations.

This request has been submitted to the Office of Management and Budget (OMB) for emergency approval. Any comments received on this notice will be addressed in a subsequent information collection package to be submitted to OMB under regular processing timeframes.

Dated: May 19, 2009.
Patricia L. Toppings,
OSD Federal Register Liaison Officer, Department of Defense.

[FR Doc. E9-14430 Filed 6-18-09; 8:45 am]

BILLING CODE 5001-06-P